DEPARTMENT OF TRANSPORTATION

Federal Highway Administration

Notice of Final Federal Agency Actions on Proposed Highway in Alaska

AGENCY: Federal Highway Administration (FHWA), DOT.

ACTION: Notice of Limitations on Claims for Judicial Review of Actions by the FHWA and other Federal agencies.

SUMMARY: This notice announces actions taken by the FHWA and other federal agencies that are final. The actions relate to a proposed highway project, Seward Highway Milepost 75 to 90 Road and Bridge Rehabilitation, in the Kenai Peninsula Borough and the Municipality of Anchorage, Alaska. Those actions grant licenses, permits, and approvals for the project.

DATES: By this notice, the FHWA is advising the public of final agency action subject to 23 U.S.C. 139(l)(1). A claim seeking judicial review of the Federal agency actions on the listed highway project will be barred unless the claim is filed on or before February 5, 2018. If the Federal law that authorizes judicial review of a claim provides a time period of less than 150 days for filing such claim, then that shorter time period still applies.

FOR FURTHER INFORMATION CONTACT: Mr. Henry Rettinger, Central Region Area Engineer, FHWA Alaska Division, P.O. Box 21648, Juneau, Alaska 99802-1648; office hours 8 a.m.-4:30 p.m. (AST), phone (907) 586-7544; email Henry.Rettinger@dot.gov. You may also contact Brian Elliott, DOT&PF Central Region Environmental Manager, Alaska Department of Transportation and Public Facilities, 4111 Aviation Drive, P.O. Box 196900, Anchorage, Alaska 99519-6900; office hours 7:30 a.m.-5 p.m. (AST), phone (907) 269-0539, email Brian.Elliott@alaska.gov.

SUPPLEMENTARY INFORMATION: Notice is hereby given that FHWA has taken final agency actions subject to 23 U.S.C. 139(l)(1) by issuing licenses, permits, and approvals for the proposed highway project, Seward Highway Milepost 75 to 90 Road and Bridge Rehabilitation, in the Kenai Peninsula Borough and the Municipality of Anchorage, Alaska. The proposed project would improve the Seward Highway between Milepost 75 and Milepost 90 as follows:

1. Resurface the entire 15-mile highway corridor with asphalt and reconstruct its subbase where necessary;

2. Construct auxiliary passing lanes in three locations (in total, approximately 5 miles of new northbound passing lanes and 5 miles of new southbound passing lanes will be constructed);

3. Realign and reprofile the MP 88 horizontal and vertical curves;

4. Realign the Portage curve, which would make at-grade improvements at the Portage Glacier Road intersection and improve recreation access in the vicinity;

5. Construct two parking areas near MP 81.5 and MP 83 to access the area for hooligan dipnet fishing, the parking lots will be connected by a new paved path;

6. Replace or reconstruct most existing driveways;

7. Replace eight bridges (at Glacier Creek, Virgin Creek, Peterson Creek, Twentymile River, Portage Creek No. 1, Portage Creek No. 2, Placer River, and Placer River Overflow) and rehabilitate one bridge (at Ingram Creek);

8. Where possible, replace and reduce the existing guardrail length;

9. Improve drainage by replacing or reconfiguring culverts; and

10. Replace/install miscellaneous maintenance/intelligent transportation system features such as: Road Weather Information Systems, Automatic Traffic Recorders, and avalanche protection gun pads.

The environmental effects of the Seward Highway Milepost 75 to 90 Road and Bridge Rehabilitation project are evaluated and described in the Revised Environmental Assessment (REA) issued pursuant to the National Environmental Policy Act. Key issues identified in the REA include a not likely to adversely affect determination for the Cook Inlet Beluga Whale and designated Critical Habitat, construction mitigation measures to protect the Cook Inlet Beluga Whale and designated Critical Habitat, identification and protection of Section 4(f) historic and recreational properties within the project corridor, and temporary construction effects on local businesses and tourism. Measures to avoid, minimize, and/or mitigate adverse environmental effects are included in the REA and associated Finding of No Significant Impact (FONSI).

The actions by the Federal agencies, and the laws under which such actions were taken, are described in the REA, Section 4(f) evaluations, and FONSI, issued on June 6, 2017, and in other documents in the FHWA project records. The REA, Section 4(f) evaluations, FONSI, and other project records are available by contacting FHWA or the State of Alaska Department of Transportation & Public Facilities at the addresses provided above. The EA and FONSI documents can be viewed and downloaded from the project Web site at http://www.sewardhighway75to90.com or viewed at 4111 Aviation Avenue, Anchorage, Alaska 99519.

This notice applies to all Federal agency decisions as of the issuance date of this notice and all laws under which such actions were taken, including but not limited to:

1. General: National Environmental Policy Act (NEPA) [42 U.S.C. 4321 et seq.]; Council on Environmental Quality Regulations [40 CFR parts 1500 et seq.]; Federal-Aid Highway Act of 1970 [23 U.S.C. 109]; MAP-21, the Moving Ahead for Progress in the 21st Century Act [Pub. L. 112-141].

2. Air: Clean Air Act [42 U.S.C. 7401 et seq.].

3. Land: Section 4(f) of the Department of Transportation Act of 1966 [49 U.S.C. 303]; Land and Water Conservation Fund (LWCF) [54 U.S.C. 200301 et seq.].

4. Noise: Noise Control Act of 1972 [42 U.S.C. 4901 et seq.].

5. Wetlands and Water Resources: Clean Water Act (Section 401 and Section 404) [33 U.S.C. 1251 et seq.] (Federal Water Pollution Control Act of 1972); Safe Drinking Water Act, as amended [42 U.S.C. 300f et seq.]; Coastal Zone Management Act [16 U.S.C. 1451 et seq.]; Wild and Scenic Rivers Act [16 U.S.C. 1271 et seq.].

6. Wildlife: Endangered Species Act of 1973, as amended [16 U.S.C. 1531 et seq.]; Marine Mammal Protection Act of 1972, as amended [16 U.S.C. 1361 et seq.]; Fish and Wildlife Coordination Act, as amended [16 U.S.C. 661 et seq.]; Migratory Bird Treaty Act [16 U.S.C. 703-712]; Anadromous Fish Conservation Act [16 U.S.C. 757a-757g]; Magnuson-Stevenson Fishery Conservation and Management Act, as amended [16 U.S.C. 1801 et seq.].

7. Historic and Cultural Resources: Section 106 of the National Historic Preservation Act of 1966, as amended [54 U.S.C. 306108]; Archeological Resources Protection Act of 1977 [16 U.S.C. 470aa et seq.]; Archeological and Historic Preservation Act [54 U.S.C. 312501 et seq.].

8. Social and Economic: Title VI of the Civil Rights Act of 1964, as amended [42 U.S.C. 2000d et seq.]; Farmland Protection Policy Act (FPPA) [7 U.S.C. 4201 et seq.].

9. Executive Orders: E.O. 13186—Responsibilities of Federal Agencies to Protect Migratory Birds; E.O. 11514—Protection and Enhancement of Environmental Quality; E.O. 11990—Protection of Wetlands; E.O. 11988—Floodplain Management; E.O. 13112—Invasive Species; E.O. 12898—Federal Actions to Address Environmental Justice in Minority Populations and Low-Income Populations.

(Catalog of Federal Domestic Assistance Program Number 20.205, Highway Planning and Construction. The regulations implementing Executive Order 12372 regarding intergovernmental consultation on Federal programs and activities apply to this program.)

Authority: 23 U.S.C. 139(l)(1).

Issued on: August 29, 2017.
Sandra A. Garcia-Aline,
Division Administrator, Juneau, Alaska.

[FR Doc. 2017-18901 Filed 9-5-17; 8:45 am]

BILLING CODE 4910-RY-P